DEPARTMENT OF COMMERCE

National Oceanic and Atmospheric Administration

List of National System Marine Protected Areas

AGENCY: NOAA, Department of Commerce (DOC).

ACTION: Notice of availability of the List of National System Marine Protected Areas (MPAs) and response to comments on nominations of existing MPAs to the national system.

SUMMARY: NOAA and the Department of the Interior (DOI) invited federal, state, commonwealth, and territorial MPA programs with potentially eligible existing MPAs to nominate their sites to the national system of MPAs (national system). A total of 225 nominations were received. Following a 30-day public review period, 26 public comments were received by the National Marine Protected Areas Center and forwarded to the relevant managing agencies. After review of the public comments, managing agencies were asked to make a final determination of sites to nominate to the national system. All the nominations were confirmed by the managing agencies. Finding them to be eligible for the national system, the National Marine Protected Areas Center has accepted the nominations for 225 sites and placed them on the List of National System MPAs.

The national system and the nomination process are described in the Framework for the National System of Marine Protected Areas of the United States of America (Framework), developed in response to Executive Order 13158 on Marine Protected Areas. The final Framework was published on November 19, 2008, and provides guidance for collaborative efforts among Federal, State, commonwealth, territorial, tribal and local governments and stakeholders to develop an effective and well coordinated national system that includes existing MPAs meeting national system criteria as well as new sites that may be established by managing agencies to fill key conservation gaps in important ocean areas.

FOR FURTHER INFORMATION CONTACT: Lauren Wenzel, NOAA, at 301-713-3100, ext. 136 or via e-mail at mpa.comments@noaa.gov. A more detailed electronic copy of the List of National System MPAs is available for download at http://www.mpa.gov.

SUPPLEMENTARY INFORMATION:

Background on National System

The national system of MPAs includes member MPA sites, networks and systems established and managed by Federal, State, Territorial, Tribal and/or local governments that collectively enhance conservation of the nation's natural and cultural marine heritage and represent its diverse ecosystems and resources. Although participating sites continue to be managed independently, national system MPAs also work together at the regional and national levels to achieve common objectives for conserving the nation's important natural and cultural resources, with emphasis on achieving the priority conservation objectives of the Framework. MPAs include sites with a wide range of protection, from multiple use areas to no take reserves where all extractive uses are prohibited. The term MPA refers only to the marine portion of a site (below the mean high tide mark) that may include both terrestrial and marine components.

Benefits of joining the national system, which are expected to increase over time as the system matures, include a facilitated means to work with other MPAs in the MPA's region, and nationally on issues of common conservation concern; fostering greater public and international recognition of MPAs and the resources they protect; priority in the receipt of available technical and other support for cross-cutting needs; and the opportunity to influence Federal and regional ocean conservation and management initiatives (such as integrated ocean observing systems, systematic monitoring and evaluation, targeted outreach to key user groups, and helping to identify and address MPA research needs). In addition, the national system provides a forum for coordinated regional planning about place-based conservation priorities that does not otherwise exist.

Joining the national system does not restrict or require changes affecting the designation process or management of member MPAs. It does not bring State, Territorial, Tribal or local sites under Federal authority. It does not establish new regulatory authority or revise existing regulatory authority. The national system is a mechanism to foster greater collaboration among participating MPA sites and programs in order to enhance stewardship in the waters of the United States.

Nomination Process

The Framework describes two major focal areas for building the national system of MPAs—a nomination process to allow existing MPAs that meet the entry criteria to become part of the system and a collaborative regional gap analysis process to identify areas of significance for natural or cultural resources that may merit additional protection through existing Federal, State, commonwealth, territorial, tribal or local MPA authorities. The initial nomination process for the national system began on November 25, 2008, when the National Marine Protected Areas Center (MPA Center) sent a letter to federal, state, commonwealth, and territorial MPA programs inviting them to submit nominations of eligible MPAs to the national system. The initial deadline for nominations was January 31, 2009; this was extended to February 13, 2009. A public comment period was held from March 6, 2009 through April 6, 2009.

There are three entry criteria for existing MPAs to join the national system, plus a fourth for cultural heritage. Sites that meet all pertinent criteria are eligible for the national system.

1. Meets the definition of an MPA as defined in the Framework.

2. Has a management plan (can be site-specific or part of a broader programmatic management plan; must have goals and objectives and call for monitoring or evaluation of those goals and objectives).

3. Contributes to at least one priority conservation objective as listed in the Framework.

4. Cultural heritage MPAs must also conform to criteria for the National Register for Historic Places.

Additional sites not currently meeting the management plan criterion can be evaluated for eligibility to be nominated to the system on a case-by-case basis based on their ability to fill gaps in the national system coverage of the priority conservation objectives and design principles described in the Framework.

The MPA Center used existing information in the MPA Inventory to determine which MPAs meet the first and second criteria. The inventory is online at http://www.mpa.gov/helpful_resources/inventory.html, and potentially eligible sites are posted online at http://mpa.gov/pdf/national-system/allsitesumsheet120408.pdf. As part of the nomination process, the managing entity for each potentially eligible site is asked to provide information on the third and fourth criteria.

List of National System MPAs

The following MPAs have been nominated by their managing programs to join the national system of MPAs. A list providing more detail for each site is available at http://www.mpa.gov.

Federal Marine Protected Areas

Marine National Monument

Papahānaumokuākea Marine National Monument (Hawaii)

National Marine Sanctuaries

Channel Islands National Marine Sanctuary (California)

Cordell Bank National Marine Sanctuary (California)

Fagatele Bay National Marine Sanctuary (American Samoa)

Florida Keys National Marine Sanctuary (Florida)

Flower Garden Banks National Marine Sanctuary (Texas)

Gray's Reef National Marine Sanctuary (Georgia)

Stellwagen Bank National Marine Sanctuary (Massachusetts)

Gulf of the Farallones National Marine Sanctuary (California)

Hawaiian Islands Humpback Whale National Marine Sanctuary (Hawaii)

Monitor National Marine Sanctuary (North Carolina)

Monterey Bay National Marine Sanctuary (California)

Olympic Coast National Marine Sanctuary (Washington)

Thunder Bay National Marine Sanctuary (Michigan)

National Parks

Assateague Island National Seashore (Virginia, Maryland)

Biscayne National Park (Florida)

Channel Islands National Park (California)

Dry Tortugas National Park (Florida)

Everglades National Park (Florida)

Glacier Bay National Park (Alaska)

Isle Royale National Park (Minnesota, Michigan)

Point Reyes National Park (California)

Virgin Islands Coral Reef National Monument (US Virgin Islands)

Virgin Islands National Park (US Virgin Islands)

National Wildlife Refuges

ACE Basin National Wildlife Refuge (South Carolina)

Alaska Maritime National Wildlife Refuge (Alaska)

Alligator River National Wildlife Refuge (North Carolina)

Anahuac National Wildlife Refuge (Texas)

Aransas National Wildlife Refuge (Texas)

Arctic National Wildlife Refuge (Alaska)

Back Bay National Wildlife Refuge (Virginia)

Baker Island National Wildlife Refuge (Hawaii)

Bandon Marsh National Wildlife Refuge (Oregon)

Big Boggy National Wildlife Refuge (Texas)

Big Branch Marsh National Wildlife Refuge (Louisiana)

Blackwater National Wildlife Refuge (Maryland)

Block Island National Wildlife Refuge (Rhode Island)

Bombay Hook National Wildlife Refuge (Delaware)

Bon Secour National Wildlife Refuge (Alabama)

Brazoria National Wildlife Refuge (Texas)

Breton National Wildlife Refuge (Louisiana)

Cape May National Wildlife Refuge (New Jersey)

Cape Romain National Wildlife Refuge (South Carolina)

Cedar Island National Wildlife Refuge (North Carolina)

Cedar Keys National Wildlife Refuge (Florida)

Chassahowitzka National Wildlife Refuge (Florida)

Chincoteague National Wildlife Refuge (Virginia, Maryland)

Conscience Point National Wildlife Refuge (New York)

Crocodile Lake National Wildlife Refuge (Florida)

Cross Island National Wildlife Refuge (Maine)

Crystal River National Wildlife Refuge (Florida)

Currituck National Wildlife Refuge (North Carolina)

Delta National Wildlife Refuge (Louisiana)

Don Edwards San Francisco Bay National Wildlife Refuge (California)

Dungeness National Wildlife Refuge (Washington)

Eastern Neck National Wildlife Refuge (Maryland)

Eastern Shore of Virginia National Wildlife Refuge (Virginia)

Edwin B. Forsythe National Wildlife Refuge (New Jersey)

Featherstone National Wildlife Refuge (Virginia)

Fisherman Island National Wildlife Refuge (Virginia)

Grand Bay National Wildlife Refuge (Mississippi, Alabama)

Grays Harbor National Wildlife Refuge (Washington)

Great Bay National Wildlife Refuge (New Hampshire)

Great White Heron National Wildlife Refuge (Florida)

Guam National Wildlife Refuge (Guam)

Howland Island National Wildlife Refuge (Pacific Islands)

Huron National Wildlife Refuge (Michigan)

Island Bay National Wildlife Refuge (Florida)

J.N. Ding Darling National Wildlife Refuge (Florida)

Jarvis Island National Wildlife Refuge (Pacific Islands)

John H. Chafee National Wildlife Refuge (Rhode Island)

Johnston Island National Wildlife Refuge (Pacific Islands, Hawaii)

Key West National Wildlife Refuge (Florida)

Kingman Reef National Wildlife Refuge (Pacific Islands)

Lewis and Clark National Wildlife Refuge (Washington, Oregon)

Lower Suwannee National Wildlife Refuge (Florida)

Mackay Island National Wildlife Refuge (Virginia, North Carolina)

Marin Islands National Wildlife Refuge (California)

Martin National Wildlife Refuge (Maryland)

Mashpee National Wildlife Refuge (Massachusetts)

Matlacha Pass National Wildlife Refuge (Florida)

Midway Atoll National Wildlife Refuge (Hawaii)

Monomoy National Wildlife Refuge (Massachusetts)

National Key Deer Refuge (Florida)

Nestucca Bay National Wildlife Refuge (Oregon)

Ninigret National Wildlife Refuge (Rhode Island)

Nisqually National Wildlife Refuge (Washington)

Nomans Land Island National Wildlife Refuge (Massachusetts)

Occoquan Bay National Wildlife Refuge (Virginia)

Oyster Bay National Wildlife Refuge (New York)

Palmyra Atoll National Wildlife Refuge (Pacific Islands)

Parker River National Wildlife Refuge (Massachusetts)

Pea Island National Wildlife Refuge (North Carolina)

Pelican Island National Wildlife Refuge (Florida)

Pine Island National Wildlife Refuge (Florida)

Pinellas National Wildlife Refuge (Florida)

Plum Tree Island National Wildlife Refuge (Virginia)

Pond Island National Wildlife Refuge (Maine)

Prime Hook National Wildlife Refuge (Delaware)

Protection Island National Wildlife Refuge (Washington)

Rachel Carson National Wildlife Refuge (Maine)

Rose Atoll National Wildlife Refuge (Pacific Islands)

Sabine National Wildlife Refuge (Louisiana)

Sachuest Point National Wildlife Refuge (Rhode Island)

San Bernard National Wildlife Refuge (Texas)

San Pablo Bay National Wildlife Refuge (California)

Seatuck National Wildlife Refuge (New York)

Shell Keys National Wildlife Refuge (Louisiana)

Siletz Bay National Wildlife Refuge (Oregon)

St. Marks National Wildlife Refuge (Florida)

St. Vincent National Wildlife Refuge (Florida)

Stewart B. McKinney National Wildlife Refuge (Connecticut)

Supawna Meadows National Wildlife Refuge (New Jersey)

Susquehanna National Wildlife Refuge (Maryland)

Swanquarter National Wildlife Refuge (North Carolina)

Sweetwater Marsh National Wildlife Refuge (California)

Target Rock National Wildlife Refuge (New York)

Ten Thousand Islands National Wildlife Refuge (Florida)

Waccamaw National Wildlife Refuge (South Carolina)

Wallops Island National Wildlife Refuge (Virginia)

Wertheim National Wildlife Refuge (New York)

Willapa National Wildlife Refuge (Washington)

Yukon Delta National Wildlife Refuge (Alaska)

Federal/State Partnership Marine Protected Areas

National Estuarine Research Reserves

Guana Tolomato Matanzas National Estuarine Research Reserve (Florida)

Jacques Cousteau National Estuarine Research Reserve (New Jersey)

Rookery Bay National Estuarine Research Reserve (Florida)

Waquoit Bay National Estuarine Research Reserve (Massachusetts)

State Marine Protected Areas

American Samoa

Aua

California

Ano Nuevo Area of Special Biological Significance

Ano Nuevo State Marine Conservation Area

Asilomar State Marine Reserve

Big Creek State Marine Conservation Area

Big Creek State Marine Reserve

Bird Rock Area of Special Biological Significance

Bodega Area of Special Biological Significance

Cambria State Marine Conservation Area

Carmel Bay Area of Special Biological Significance

Carmel Bay State Marine Conservation Area

Carmel Pinnacles State Marine Reserve

Del Mar Area of Special Biological Significance

Double Point Area of Special Biological Significance

Duxbury Reef Area of Special Biological Significance

Edward F. Ricketts State Marine Conservation Area

Elkhorn Slough State Marine Conservation Area

Elkhorn Slough State Marine Reserve

Farallon Islands Area of Special Biological Significance

Farnsworth Bank Area of Special Biological Significance

Gerstle Cove Area of Special Biological Significance

Greyhound Rock State Marine Conservation Area

Heisler Park Area of Special Biological Significance

Irvine Coast Area of Special Biological Significance

James V. Fitzgerald Area of Special Biological Significance

Jughandle Cove Area of Special Biological Significance

Julia Pfeiffer Burns Area of Special Biological Significance

King Range Area of Special Biological Significance

La Jolla Area of Special Biological Significance

Laguna Point to Latiga Point Area of Special Biological Significance

Lovers Point State Marine Reserve

Moro Cojo Slough State Marine Reserve

Morro Bay State Marine Recreational Management Area

Morro Bay State Marine Reserve

Natural Bridges State Marine Reserve

Northwest Santa Catalina Area of Special Biological Significance

Pacific Grove Area of Special Biological Significance

Pacific Grove Marine Gardens State Marine Conservation Area

Piedras Blancas State Marine Conservation Area

Piedras Blancas State Marine Reserve

Point Buchon State Marine Conservation Area

Point Buchon State Marine Reserve

Point Lobos Area of Special Biological Significance

Point Lobos State Marine Conservation Area

Point Lobos State Marine Reserve

Point Reyes Headlands Area of Special Biological Significance

Point Sur State Marine Conservation Area

Point Sur State Marine Reserve

Portuguese Ledge State Marine Conservation Area

Redwoods National Park Area of Special Biological Significance

Robert E. Badham Area of Special Biological Significance

Salmon Creek Coast Area of Special Biological Significance

San Clemente Area of Special Biological Significance

San Diego Scripps Area of Special Biological Significance

San Nicolas Island & Begg Rock Area of Special Biological Significance

Santa Barbara & Anacapa Island Area of Special Biological Significance

Santa Rosa & Santa Cruz Island Area of Special Biological Significance

Saunders Reef Area of Special Biological Significance

Soquel Canyon State Marine Reserve

Southeast Santa Catalina Area of Special Biological Significance

Trinidad Head Area of Special Biological Significance

Vandenberg State Marine Reserve

Western Santa Catalina Area of Special Biological Significance

White Rock (Cambria) State Marine Conservation Area

Florida

See National Estuarine Research Reserves, above.

Hawaii

Ahihi Kina'u Natural Area Reserve

Hanauma Bay Marine Life Conservation District, Oahu

Kaho'olawe Island Reserve

Kealakekua Bay Marine Life Conservation District

Molokini Shoal Marine Life Conservation District

Pupukea Marine Life Conservation District, Oahu

West Hawaii Regional Fisheries Management Area

Maryland

U-1105 Black Panther Historic Shipwreck Preserve

Massachusetts

See National Estuarine Research Reserves, above

New Jersey

See National Estuarine Research Reserves, above

Virginia

Bethel Beach Natural Area Preserve

Blue Crab Sanctuary

Dameron Marsh Natural Area Preserve

False Cape State Park

Hughlett Point Natural Area Preserve

Kiptopeke State Park

Savage Neck Dunes Natural Area Preserve

Washington

Admiralty Head Preserve

Argyle Lagoon San Juan Islands Marine Preserve

Blake Island Underwater Park

Brackett's Landing Shoreline Sanctuary Conservation Area

Cherry Point Aquatic Reserve

Cypress Island Aquatic Reserve

Deception Pass Underwater Park

False Bay San Juan Islands Marine Preserve

Fidalgo Bay Aquatic Reserve

Friday Harbor San Juan Islands Marine Preserve

Haro Strait Special Management Fishery Area

Maury Island Aquatic Reserve

San Juan Channel & Upright Channel Special Management Fishery Area

Orchard Rocks Conservation Area

Shaw Island San Juan Islands Marine Preserve

South Puget Sound Wildfire Area

Sund Rock Conservation Area

Yellow and Low Islands San Juan Islands Marine Preserve

Zelia Schultz/Protection Island Marine Preserve

Response to Public Comments

On March 6, 2009, NOAA and DOI (agencies) published the Nomination of Existing Marine Protected Areas to the National System of Marine Protected Areas for public comment. By the end of the 30-day comment period, 26 individual submissions had been received from a variety of government agencies, non-governmental organizations, industry and conservation interests, advisory groups and the public. Given the breadth and multi-faceted nature of comments and recommendations received, related comments have been grouped below into categories to simplify the development of responses. For each of the comment categories listed below, a summary of comments is provided, and a corresponding response provides an explanation and rationale about changes that were or were not made in the Official List of National System Marine Protected Areas (MPAs) for this first round of nominated sites.

Comment Category 1: Purpose and Scope of National System

Comment Category 2: Agency Review Process

Comment Category 3: Public Review Process

Comment Category 4: Support for Nomination of Specific Sites to National System

Comment Category 5: Questioning Eligibility of Specific Sites for the National System

Comment Category 6: Concerns about Potential Restrictions on Use

Comment Category 7: Information Available to Assess Nominations

Comment Category 8: Information Quality Act

Comment Category 9: Gap Analysis

Comments and Responses

Comment Category 1: Purpose and Scope of National System

Summary

A few comments called for more clarity about the purpose and vision of the National System of Marine Protected Areas (MPAs), although there were different perspectives about what this vision should include. One respondent thought that the agencies should create more specific minimum criteria for the national system, while another contended that the nomination process should mirror the creation of new sites under the National Marine Sanctuaries Act. Some respondents had comments on entry criteria for nominations to the National System of MPAs, or on plans for implementation of the federal responsibility to avoid harm to the resources protected by a national system MPA. One respondent recommended that the name of the “National System of MPAs” be revised and called the “National Network of MPAs” stating that “a National Network is opinion-based; a National System is science-based.”

Response

The purpose and scope of the national system, and plans for its implementation, were developed with extensive stakeholder engagement over a four year period from 2004 through 2008. During this period, the Framework for the National System of Marine Protected Areas of the United States (Framework) was developed. Three separate public comment periods on the document were held and announced in the Federal Register. In addition, the National Marine Protected Areas Center (MPA Center) held numerous meetings with stakeholders to obtain input on the Framework, and worked closely with the Marine Protected Areas Federal Advisory Committee (MPA FAC) in open meetings on key concepts that were incorporated into the document. The Framework document was finalized in November 2008; no public comments were received on the Federal Register notice announcing its release. Issues raised by respondents focused on the content of the Framework are not considered germane to this public comment notice.

Regarding the recommendation that the nomination process should mirror the National Marine Sanctuaries Act (NMSA), the agencies contend that the NMSA should not be the model for nominations to the national system for the following reasons: (1) The national system is charged with working to coordinate diverse MPAs across all levels of governments. These sites and programs have diverse authorities, and it is inappropriate to impose the requirements of one federal MPA program (e.g. the NMSA) on other federal, state, and territorial MPA programs, which have their own legal authorities, processes and purposes; (2) The procedural elements for the NMSA are focused on the designation of new MPAs, while the nomination process for national system of MPAs is focused on the admission of existing MPAs into the national system for the purposes of enhanced coordination, recognition and stewardship and (3) The NMSA's extensive procedural requirements for sanctuary designation (including public involvement and interagency consultation) are not warranted for inclusion of a site in the national system of MPAs since that action has no regulatory impact or potential to restrict human uses of that site.

The agencies disagree with the recommendation that the National System of MPAs be renamed the “National Network of MPAs.” Section 4(e) of Executive Order 13158 calls for the development of a National System of MPAs. In addition, the terms “system” and “network” as used in the Framework are clearly defined in Section VI. Glossary of Key Terms of the final Framework. These definitions were developed in consultation with the MPA Federal Advisory Committee to ensure clarity of usage and consistency with current scientific thinking.

Comment Category 2: Agency Review Process

Summary

Two respondents called for nominations to the national system to undergo special review by particular management agencies. One called for all nominations in a given region to be reviewed and approved by regional Fishery Management Councils. Another respondent called for all sites in Alaska to be reviewed and approved by the Alaska Board of Fisheries.

Response

The current process for nominations to the national system provides for nominations to be made by the MPA's managing agency and for a public review process of the MPAs proposed for nomination. The agencies believe that while it is appropriate for other agencies or bodies in a region to comment on such proposed nominations as part of the public process, it is inappropriate for these other agencies or bodies to have the authority to approve or disapprove nominations made by the agency legally responsible for the management of an MPA.

Comment Category 3: Public Review Process

Summary

Two respondents noted that the 30-day public comment period was not sufficient to review information for 225 nominated sites, and requested that the public comment period be extended. One respondent recommended that all nominated sites be reviewed by the Marine Protected Areas Federal Advisory Committee.

Response

The agencies have concluded that this extension is not necessary because the public has had ample opportunity to address many of the issues raised through the multi-year public process to develop the Framework, which included three separate Federal Register public comment periods. The agencies followed the Framework's process and provided an opportunity for the public to comment on issues related specifically to nominations to the national system. The agencies do not believe that an extended comment period would substantively change the comments received. Moreover, because the national system of MPAs is a non-regulatory program that will not change the management or regulations of member sites, there is no risk of harm to the public resulting from declining this extension. Regarding the recommendation that the Marine Protected Areas Federal Advisory Committee should review the nominations, the Committee was actively involved in developing and recommending the entry criteria for the national system. However, the role of the Committee is to provide advice to the Departments of Commerce and the Interior, not to engage in governmental decision-making regarding operational details of the national system.

Comment Category 4: Support for Nomination of Specific Sites to National System

Summary

A number of comments supported the nomination of specific sites to the national system, noting the significant ecological and cultural value of the areas, and adding that the participation of these sites in the national system will lead to a strengthening of their conservation efforts, as well as enhancing the national system. One comment sought better integration among NOAA Fisheries and National Marine Sanctuaries, and further sought opportunities to leverage funds and establish partnerships.

Response

Comments that support the nominations of sites to the national system were forwarded to the appropriate managing agencies. Regarding the call for enhanced integration, the agencies believe that the national system will result in enhanced collaboration and coordination of all MPA managing agencies, including NOAA Fisheries and National Marine Sanctuaries.

Comment Category 5: Questioning Eligibility of Specific Sites for the National System

Summary

Several comments questioned the eligibility of specific sites for inclusion in the national system. Eligibility concerns included whether sites met the definitions of `marine' and `MPA,' as well as concerns over a specific site's management plan. In particular, several respondents noted that the Cherry Point Aquatic Reserve (WA) did not meet the national system entry criteria to have a management plan because its management plan is still in draft.

Response

According to the Framework for the National System of Marine Protected Areas of the United States of America (Framework), a site is eligible for inclusion in the national system if the site: (1) Meets the definition of an MPA as defined in the Framework; (2) has a management plan (can be site-specific or part of a broader programmatic management plan); (3) contributes to at least one priority conservation objective as listed in the Framework; and (4) cultural heritage resources must also conform to criteria for the National Register of Historic Places.

It is important to note that only the `marine' portion of a site will be eligible for inclusion in the national system. According to the Framework, to be marine, a site “must be: (a) Ocean or coastal waters (note: coastal waters may include intertidal areas, bays or estuaries); (b) an area of the Great Lakes or their connecting waters; (c) an area of submerged lands under ocean or coastal waters or the Great Lakes or their connecting waters; or (d) a combination of the above. The term “intertidal” is understood to mean the shore zone between the mean low water and mean high water marks. An MPA may be a marine component part of a larger site that includes uplands. However, the terrestrial portion is not considered an MPA. For mapping purposes, an MPA may show an associated terrestrial protected area.”

Recognizing the often lengthy process in finalizing a management plan, which in some cases can take years to complete, the agencies determined that an established site may submit a draft management plan in order to meet this eligibility criterion.

Comment Category 6: Concerns About Potential Restrictions on Use

Summary

Several comments addressed the concern that the inclusion of a site in the national system will limit access to an area, and in particular will restrict recreational fishing or boating, sportfishing, commercial fishing, aquaculture operations, or coastal industry.

Response

The national system has no authority under Executive Order 13158 to either change the management or regulatory authority of existing MPAs or create new MPAs. MPAs will continue to be established, managed and revised under each site's existing federal, state, territorial, tribal or local authorities and their associated legal processes. The inclusion of an MPA into the national system in no way “federalizes” any state or local areas included within the system. The Executive Order states that the national system is “intended to support, not interfere with, agencies' independent exercise of their own existing authorities.”

Comment Category 7: Information Available to Assess Nominations

Summary

Several respondents contended that the information available on the nominated sites was not sufficient for the public to assess whether the entry criteria had been met. Respondents noted that additional information was needed to ensure the transparency of the review process. For example, one respondent wanted to view information that indicated how, not merely whether, sites met the nomination criteria.

Response

The agencies posted information on the nominated sites on the public Web site, http://www.mpa.gov in a downloadable PDF format. Information provided in this format included: site name, management agency, level of protection, permanence, constancy, protection focus, fishing restrictions and management plan type. In addition, information on the primary conservation objective(s) addressed by each site, and the regulatory or management tools used to address the primary conservation objective(s) was provided. One week after the Federal Register notice appeared, based on a request from the public, the location of all federal sites sorted by the state in which it is located was added to the downloadable file to improve ease of utility. Users were also able to download GIS data for nominated sites as part of the MPA Inventory posted on www.mpa.gov. Information regarding the MPA Center's assessment of eligibility was available to the public through the Web site. For example, the Web site provided information on the type of management plan for each site, as well as the evidence the management program for each site provided to indicate how it met the primary conservation objective(s) of the national system.

The MPA Center recognizes the need to expand the data available on http://www.mpa.gov and to make it more accessible and usable to the public, and is in process of developing and improving Web-based applications to address this need.

Comment Category 8: Information Quality Act

Summary

One respondent expressed concern that because of general disclaimers on the http://www.mpa.gov Web site (at: http://mpa.gov/helpful_resources/disclaimers_pr.html), the data contained therein regarding the Marine Protected Areas Inventory does not comply with the Information Quality Act (IQA). The respondent states that in light of the disclaimer language, the public “has no reason to believe that any of these data are accurate, reliable, and complete or they have any utility.” If true, dissemination of such information would violate NOAA's Information Quality (IQ) guidelines, published pursuant to the IQA. In support of this assertion, the respondent cites NOAA's IQA guidelines as follows: “Information quality is composed of three elements: utility, integrity and objectivity. Quality will be ensured and established at levels appropriate to the nature and timeliness of the information to be disseminated. NOAA will conduct a pre-dissemination review of information it disseminates to verify quality. Information quality is an integral part of the pre-dissemination review * * * .”

Response

NOAA's MPA Inventory information is reliable and complies with the NOAA IQ guidelines standards for utility, integrity, and objectivity. The content of the initial Marine Managed Area (MMA) Inventory and its successor Marine Protected Areas Inventory (MPA Inventory) were developed and designed in cooperation with federal, state and territorial agencies and were the subject of public comment under the Paperwork Reduction Act. The definition of “MPA” was the subject of Federal Register comment processes as part of the inventory development process, and three additional times as part of the development and publication of the Framework for the National System of Marine Protected Areas of the United States of America. Data were collected directly from primary sources, and from the Federal, State, or territorial agency programs that designate and manage MPAs. Once initial data were collected, inventory information for each site was sent by the MPA Center to the pertinent MPA management agency for verification prior to posting on the www.mpa.gov Web site as part of the quality assurance/quality control process.

In addition, on November 20, 2008 the MPA Center Director sent a letter to MPA program managers providing each with a set of potential nominee sites from the pertinent program. The MPA program managers reviewed and verified the accuracy of the information provided. As a result of these review processes, the agencies believe NOAA's MPA inventory and related information disseminated through the MPA Center Web site meet the applicable NOAA IQ standards.

Regarding the disclaimer language posted on the MPA Center Web site (at: http://mpa.gov/helpful_resources/disclaimers_pr.html), the agency has taken the respondent's comments into consideration and will replace the existing disclaimer with more appropriate language regarding limitations on the use of the data contained on the MPA Center Web site.

Comment Category 9: Gap Analysis

Summary

Two respondents noted the importance of the gap analysis described in the Framework document, and urged that the agencies move forward with the gap analysis to identify areas meeting the conservation objectives of the national system in need of additional protection.

Response

The regional gap analysis process described in the Framework will complement the nominations of existing sites to the National System of MPAs by providing information on areas in need of additional protection to MPA management agencies. NOAA and DOI are currently in the design phase of the gap analysis process; information on the process will continue to be posted on http://www.mpa.gov.

Dated: April 17, 2009.
John H. Dunnigan,
Assistant Administrator.

[FR Doc. E9-9335 Filed 4-22-09; 8:45 am]

BILLING CODE P